DEPARTMENT OF ENERGY

Federal Energy Regulatory Commission

[Docket No. AD02-14-000]

Conference on Emergency Reconstruction of Interstate Natural Gas Infrastructure; Notice of Technical Conference and Agenda

April 16, 2002.

As announced in the Notice of Conference issued on April 2, 2002, staff from the Federal Energy Regulatory Commission (Commission) and from the Office of Pipeline Safety of the Department of Transportation will convene a technical conference on April 22, 2002 at 9 a.m. in the Commission Meeting Room (2C) to begin discussions with interested parties on whether and how to clarify, expedite and streamline permitting and approvals for interstate pipeline reconstruction in the event of disaster, whether natural or otherwise. The conference Agenda is appended to this Notice.

Transcripts of the conference will be available from Ace Reporting Company (202-347-3700), for a fee. The transcript will be available on the Commission's RIMS system two weeks after the conference.

For additional information, please contact Carol Connors in the Office of External Affairs at carol.connors@ferc.gov.

Magalie R. Salas,
Secretary.

Conference on Emergency Reconstruction of Interstate Natural Gas Infrastructure April 22, 2002.

9 a.m. Opening Remarks—FERC and DOT 9:10 AM Special Presentation

Howard Schmidt, Chairman, Critical Infrastructure Protection Board

9:20 a.m. Formal Presentations

Presentations on existing authorities concerning emergency reconstruction, and recent experiences.

Berne L. Mosley, Senior Technical Expert, Office of Energy Projects

Jim O'Steen, Deputy Associate Administrator, Department of Transportation, Office of Pipeline Safety

10 a.m. Panel I—Regulatory Perspectives

Panel Members

Dinah Bear, General Counsel, Council on Environmental Quality

John Gawronski, Chief, Gas Safety, Office of Gas & Water New York State Public Service Commission

Bob Rosenthal, Director, Bureau of Fixed Utility Services, Pennsylvania Public Utility Commission

Kevin J. Bliss, Washington Representative, Interstate Oil and Gas Compact Commission

Representative from the Federal Bureau of Investigation—Invited

Representative from the Office of Homeland Security—Invited

11 a.m. Facilitated Discussion

30 Minute facilitated discussion among panel members.

11:30 a.m. Question and Answer Session

15 minutes for questions from the audience.

11:45 a.m. Break

12 p.m. Introduction of Next Panel

12:05 p.m. Panel II—Industry and Other Perspectives

Panel Members

John Somerhalder, President, El Paso Pipeline Group

Janice Alperin, Associate General Counsel, El Paso Pipeline Group

Dena Wiggins, General Counsel, Process Gas Consumers

Mary Jane McCartney, Senior Vice President for Gas Operations, Consolidated Edison Company

Michelle Joy, General Counsel, American Oil Pipeline Association

12:55 p.m. Facilitated Discussion

30 Minute facilitated discussion among panel members.

1:25 p.m. Question and Answer Session

15 minutes for questions from the audience.

1:40 p.m. Closing Remarks

[FR Doc. 02-9895 Filed 4-22-02; 8:45 am]

BILLING CODE 6717-01-P